DEPARTMENT OF ENERGY

Federal Energy Regulatory Commission

[Project No. 11858-002]

Elsinore Valley Municipal Water District, the Nevada Hydro Company, Inc.; Notice of Intent To Prepare an Environmental Impact Statement and Notice of Scoping Meetings and Site Visit and Soliciting Scoping Comments ¹

August 9, 2004.

Take notice that the following hydroelectric application has been filed with Commission and is available for public inspection:

¹ The Elsinore Valley Municipal Water District is also using this notice as its notice of scoping meeting under Public Resources Code Section 21083.9(d), which states: “A scoping meeting that is held in the city or county within which the project is located pursuant to the National Environmental Policy Act (42 U.S.C. 4321 et seq.) and the regulations adopted pursuant to that act shall be deemed to satisfy the requirement that a scoping meeting be held for a project subject to paragraph (2) of subdivision (a) if the lead agency meets the notice requirements of subdivision (b) or subdivision (c).” The full text of the statute can be viewed on the Internet at http://www.ceres.ca.gov/ceqa.

a. Type of Application: major unconstructed project.

b. Project No.: 11858-02.

c. Date filed: February 2, 2004.

d. Applicant: Elsinore Valley Municipal Water District (District) and the Nevada Hydro Company, Inc.

e. Name of Project: Lake Elsinore Advanced Pumped Storage Project.

f. Location: On Lake Elsinore and San Juan Creek, near the City of Lake Elsinore, Riverside County, California. The project would, in whole or in part, occupy federal lands, including lands managed by the Forest Service (Cleveland National Forest), Bureau of Land Management, and the Department of Defense (Camp Pendleton).

g. Filed Pursuant to: Federal Power Act 16 U.S.C. 791 (a)-825(r).

h. Applicant Contact: Rexford Wait, The Nevada Hydro Company, Inc., 2416 Cades Way, Vista, California 92083, (760) 599-0086.

i. FERC Contact: ² Jim Fargo, 202-502-6095, james.fargo@ferc.gov.

² The District's contact is Mr. Greg A. Morrison, Director of Legislative and Community Affairs, 31315 Chaney Street (P.O. Box 3000), Lake Elsinore, California 92531-3000.

j. Deadline for filing scoping comments: October 11, 2004.

All documents (original and eight copies) should be filed with: Magalie R. Salas, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The proposed project would consist of: (1) A new upper reservoir (Morrell Canyon) having a 180-foot-high main dam and a gross storage volume of at least 5,500 acre-feet, at a normal reservoir surface elevation of 2,880 feet above mean sea level (msl); (2) a powerhouse with two reversible pump-turbine units with a total installed capacity of 500 megawatts; (3) the existing Lake Elsinore to be used as a lower reservoir; (4) about 30 miles of 500 kV transmission line connecting the project to an existing transmission line owned by Southern California Edison located north of the proposed project and to an existing San Diego Gas & Electric Company transmission line located to the south, including substations and associated appurtenant facilities; and (5) local distribution facilities.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

A copy is also available for inspection and reproduction at the address in item h above.

You may also register online at http://www.ferc.gov/docs-filing/esubscription.asp to be notified via email of new filings and issuances related to this or other pending projects. For assistance, contact FERC Online Support.

n. Scoping Process. The Commission intends to prepare an Environmental Impact Statement (EIS) on the project in accordance with the National Environmental Policy Act. The EIS will consider both site-specific and cumulative environmental impacts and reasonable alternatives to the proposed action.

Scoping Meetings

FERC staff will hold three scoping meetings in the project area. We invite all interested agencies, non-governmental organizations, Native American tribes, and individuals to attend one or more of the meetings and to assist the staff in identifying the scope of environmental issues to be analyzed in the EIS. The District staff will also be present to provide information about the project and to receive comments on the scope of environmental review under the California Environmental Quality Act. The times and locations of these meetings are as follows:

Evening Scoping Meetings

When: Wednesday, September 8, 2004, 6 p.m.-9 p.m.

Where: San Juan Capistrano Community Center, 25925 Camino del Avion, San Juan Capistrano, CA 92675.

When: Thursday, September 9, 2004, 7 p.m.-10 p.m.

Where: Elsinore Valley Municipal Water District Headquarters, 31315 Chaney Street, Lake Elsinore, CA 92531.

Afternoon Scoping Meeting

When: Thursday, September 9, 2004, 1 p.m. to 3 p.m.

Where: Elsinore Valley Municipal Water District Headquarters, 31315 Chaney Street, Lake Elsinore, CA 92531.

Copies of the Scoping Document (SD1) outlining the subject areas to be addressed in the EIS are being distributed to the parties on the Commission(s mailing list under separate cover. Copies of the SD1 will be available at the scoping meeting or may be viewed on the Web at http://www.ferc.gov using the “eLibrary” link (see item m above).

Site Visit

We also will visit the site of the proposed project facilities on September 8, meeting at the District headquarters, 31315 Chaney Street, Lake Elsinore, at 8 a.m. Participants on the site visits will need to provide their own transportation and bring their own lunch.

Objectives

At the scoping meetings, the staff will: (1) Summarize the environmental issues tentatively identified for analysis in the EIS; (2) solicit from the meeting participants all available information, especially quantifiable data, on the resources at issue; (3) encourage statements from experts and the public on issues that should be analyzed in the EIS, including viewpoints in opposition to, or in support of, the staff(s preliminary views; (4) determine the resource issues to be addressed in the EIS; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EIS.

Magalie R. Salas,
Secretary.

[FR Doc. E4-1815 Filed 8-12-04; 8:45 am]

BILLING CODE 6717-01-P